NUCLEAR REGULATORY COMMISSION

Appointments to Performance Review Boards for Senior Executive Service

AGENCY: U.S. Nuclear Regulatory Commission.

ACTION: Appointment to Performance Review Boards for Senior Executive Service.

SUMMARY: The U.S. Nuclear Regulatory Commission (NRC) has announced the following appointments to the NRC Performance Review Boards.

The following individuals are appointed as members of the NRC Performance Review Board (PRB) responsible for making recommendations to the appointing and awarding authorities on performance appraisal ratings and performance awards for Senior Executives and Senior Level employees:

Samuel J. Collins, Regional Administrator, Region I.

Karen D. Cyr, General Counsel.

James E. Dyer, Director, Office of Nuclear Reactor Regulation.

Jesse L. Funches, Chief Financial Officer.

William F. Kane, Deputy Executive Director for Reactor & Preparedness Programs, Office of the Executive Director for Operations.

Bruce S. Mallett, Regional Administrator, Region IV.

Luis A. Reyes, Executive Director for Operations.

Jacqueline E. Silber, Deputy Executive Director for Information Services and Administration and Chief Information Officer.

Jack R. Strosnider, Director, Office of Nuclear Material Safety and Safeguards.

Michael F. Weber, Deputy Director, Office of Nuclear Security and Incident Response.

James T. Wiggins, Deputy Director, Office of Nuclear Regulatory Research.

The following individuals will serve as members of the NRC PRB Panel that was established to review appraisals and make recommendations to the appointing and awarding authorities for NRC PRB members:

Stephen G. Burns, Deputy General Counsel, Office of the General Counsel.

Carl J. Paperiello, Director, Office of Nuclear Regulatory Research.

Martin J. Virgilio, Deputy Executive Director for Materials, Research, State and Compliance Programs.

All appointments are made pursuant to Section 4314 of Chapter 43 of Title 5 of the United States Code.

EFFECTIVE DATE: May 17, 2005.

FOR FURTHER INFORMATION CONTACT: Secretary, Executive Resources Board, U.S. Nuclear Regulatory Commission, Washington, DC 20555, (301) 415-7530.

Dated at Rockville, Maryland, this 4th day of May, 2005.
For the U.S. Nuclear Regulatory Commission.
Carolyn J. Swanson,
Secretary, Executive Resources Board.

[FR Doc. E5-2461 Filed 5-16-05; 8:45 am]

BILLING CODE 7590-01-P